DEPARTMENT OF TRANSPORTATION

Federal Aviation Administration

14 CFR Part 39

[Docket No. 2002-NM-254-AD]

RIN 2120-AA64

Airworthiness Directives; Aircraft Equipped With Garmin AT, Apollo GX Series Global Positioning System (GPS) Navigation Units With Software Versions 3.0 Through 3.4 Inclusive

AGENCY: Federal Aviation Administration, DOT.

ACTION: Notice of proposed rulemaking (NPRM).

SUMMARY: This document proposes the adoption of a new airworthiness directive (AD) that is applicable to aircraft equipped with Garmin AT, Apollo GX series GPS navigation units with software versions 3.0 through 3.4 inclusive. This proposal would require modification and testing of the software for Apollo GX50/55/60/65 TSO-C129a GPS navigation units; and reidentification of the part. This action is necessary to prevent the GPS navigation unit, under certain conditions, from providing erroneous cross-deviation information, which could result in the aircraft deviating from its intended course for a brief period of time. Erroneous information may also place an excessive workload on the flightcrew while they monitor other available navigation data to avoid deviating off course. This action is intended to address the identified unsafe condition.

DATES: Comments must be received by May 17, 2004.

ADDRESSES: Submit comments in triplicate to the Federal Aviation Administration (FAA), Transport Airplane Directorate, ANM-114, Attention: Rules Docket No. 2002-NM-254-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-254-AD” in the subject line and need not be submitted in triplicate. Comments sent via the Internet as attached electronic files must be formatted in Microsoft Word 97 or 2000 or ASCII text.

The service information referenced in the proposed rule may be obtained from Garmin AT, 2345 Turner Road Southeast, Salem, Oregon 97302. This information may be examined at the FAA, Transport Airplane Directorate, 1601 Lind Avenue, SW., Renton, Washington.

FOR FURTHER INFORMATION CONTACT: Walter Cameron, Aerospace Engineer, Systems and Equipment Branch, ANM-130S, FAA, Seattle Aircraft Certification Office, 1601 Lind Avenue, SW., Renton, Washington 98055-4056; telephone (425) 917-6460; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-254-AD.” The postcard will be date stamped and returned to the commenter.

Availability of NPRMs

Any person may obtain a copy of this NPRM by submitting a request to the FAA, Transport Airplane Directorate, ANM-114, Attention: Rules Docket No. 2002-NM-254-AD, 1601 Lind Avenue, SW., Renton, Washington 98055-4056.

Discussion

The FAA has received a report from the manufacturer of the global positioning system (GPS) navigation unit indicating that, under certain conditions, Apollo GX50/55/60/65 TSO-C129a GPS navigation units, with software versions 3.0 through 3.4 inclusive, installed on any aircraft could provide erroneous cross-track deviation information. This condition, if not corrected, could result in the aircraft deviating from its intended course for a brief period of time. Erroneous information may also place an excessive workload on the flightcrew while they monitor other available navigation data to avoid deviating off course.

Explanation of Relevant Service Information

The FAA has reviewed and approved UPS Aviation Technologies Service Bulletin 561-4002-001, dated April 19, 2002, which describes procedures for modifying software versions 3.0 through 3.4 inclusive for Apollo GX50/55/60/65 TSO-C129a GPS navigation units with software version 3.5 and testing the modified software; and reidentifying of the modified part. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed Rule and Service Bulletin

Operators should note that although the service bulletin recommends accomplishing the software modification “at the earliest opportunity where manpower and facilities are available,” we have determined that such an imprecise compliance time would not address the identified unsafe condition in a timely manner. In developing an appropriate compliance time for this proposed AD, we considered the degree of urgency associated with the subject unsafe condition, the average utilization of the affected fleet, and the time necessary to perform the modification (1 hour). In light of all of these factors, we find that a 6-month compliance time represents an appropriate interval of time for affected airplanes to continue to operate without compromising safety.

Cost Impact

We do not know how many aircraft equipped with Apollo GX series GPS navigation units (software versions 3.0 through 3.4 inclusive) of the affected design are on the U.S. Register. However, we do know that the GPS navigation units might be installed on 1,176 aircraft worldwide. It would take approximately 1 work hour per aircraft to accomplish the proposed modification, at an average labor rate of $65 per work hour. The parts manufacturer would provide the required parts at no cost to the operator. Based on these figures, the cost impact of the proposed AD on U.S. operators is estimated to be $65 per aircraft.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Garmin AT (formerly UPS Aviation Technologies, Inc.): Docket 2002-NM-254-AD.

Applicability: Aircraft equipped with Garmin AT, Apollo GX50/55/60/65 TSO-C129a global positioning system (GPS) navigation units with software versions 3.0 through 3.4 inclusive; as listed in UPS Aviation Technologies Service Bulletin 561-4002-001, dated April 19, 2002; certificated in any category.

Compliance: Required as indicated, unless accomplished previously.

To prevent the GPS navigation unit, under certain conditions, from providing erroneous cross-deviation information, which could result in the aircraft deviating from its intended course for a brief period of time; and to also prevent erroneous information from placing an excessive workload on the flightcrew while they monitor other available navigation data to avoid deviating off course; accomplish the following:

Software Modification, Testing, and Reidentification

(a) Within 6 months after the effective date of this AD, do the actions specified in paragraphs (a)(1) and (a)(2) of this AD, according to the Accomplishment Instructions of UPS Aviation Technologies Service Bulletin 561-4002-001, dated April 19, 2002.

(1) Modify and test the software for the Apollo GX50/55/60/65 TSO-C129a GPS navigation unit by accomplishing all of the actions specified in paragraphs 3.B. and 3.C of the service bulletin.

(3) Reidentify the modified Apollo GX50/55/60/65 TSO-C129a GPS navigation unit, according to paragraph 3.D. of the service bulletin.

Alternative Methods of Compliance

(b) In accordance with 14 CFR 39.19, the Manager, Seattle Aircraft Certification Office, FAA, is authorized to approve alternative methods of compliance for this AD.

Issued in Renton, Washington, on March 25, 2004.
Kevin M. Mullin,
Acting Manager, Transport Airplane Directorate, Aircraft Certification Service.

[FR Doc. 04-7288 Filed 3-31-04; 8:45 am]

BILLING CODE 4910-13-P